DEPARTMENT OF COMMERCE

International Trade Administration

Amended Trade Mission Dates and Application Deadline to the Executive-Led Business Development Trade Mission to Kenya, March 28-30, 2023

AGENCY: International Trade Administration, Department of Commerce.

ACTION: Notice.

SUMMARY: The United States Department of Commerce, International Trade Administration (ITA), is organizing an Executive-led Business Development Mission to Kenya on March 28-30, 2023. Executive-led Business Development Mission to Kenya—This notice is to update the prior Federal Register notice to reflect that the application deadline was extended to February 10, 2023 and to amend the mission dates to reflect that the mission scheduled no longer includes the optional stop in Tanzania.

SUPPLEMENTARY INFORMATION:

Background

Executive-Led Business Development Mission to Kenya

The International Trade Administration has determined that to allow for optimal execution of recruitment and event scheduling for the mission, the proposed timetable for the trade mission is revised to eliminate the optional stop in Tanzania on Monday, March 27, and Friday, March 31. The trade mission is now scheduled to take place entirely in Kenya (per the proposed timetable below).

After extensive public outreach, the application deadline was also changed from January 27, 2023, to February 10, 2023. In accordance with 88 FR 1186 (January 9, 2023), applications received after the deadline will be considered if space and scheduling constraints permit. The U.S. Department of Commerce will review applications and make selection decisions on a rolling basis in accordance with the 88 FR 1186 (January 9, 2023). The applicants selected will be notified as soon as possible. The proposed schedule is updated as follows:

Proposed Timetable

Monday, March 27, 2023 | • Trade Mission Participants Arrive in Nairobi.
Tuesday, March 28, 2023 | • U.S. Embassy Briefing.
| • Trade Mission B2G/B2B Meetings.
| • Official Reception at Ambassador's Residence.
Wednesday, March 29, 2023 | • AmCham Summit 2023.
| • Panel Sessions.
| • Industry breakouts.
| • B2B Summit Meetings.
| • Summit Reception.
Thursday, March 30, 2023 | • AmCham Summit 2023.
| • Panel Sessions.
| • Industry breakouts.
| • B2B Summit Meetings.

Contacts

Larry Tabash (Recruitment Lead), Global Team Lead, Middle East & Africa, +1 512-936-0039, Larry.Tabash@trade.gov

Deb Carey (Project Lead), International Trade Specialist, +1 202-830-5545, Deborah.Carey@trade.gov

U.S. & Foreign Commercial Service—Nairobi Team

Leone Mutoka, Commercial Assistant, +254-20-363-6438, Leone.Mutoka@trade.gov

Judy Magondu, Commercial Assistant, +254 (20) 363-6400, Judy.Magondu@trade.gov

Josh Startup, Commercial Officer, +254-20-363-6000 ext. 6424, Joshua.Startup@trade.gov

Feleke Assefa, Senior Commercial Officer, +254-20-363-6000 ext. 6424, Feleke.Assefa@trade.gov

U.S. & Foreign Commercial Service—Dar es Salaam Team

Ken Walsh, Senior Commercial Officer, +255-22-229-4243, Ken.walsh@trade.gov

Athanas Lupatu, Commercial Specialist, +255-22-229-4341, Athanasius.lupatu@trade.gov

Gemal Brangman,
Director, ITA Events Management Task Force.

[FR Doc. 2023-03884 Filed 2-23-23; 8:45 am]

BILLING CODE 3510-DR-P